DEPARTMENT OF THE INTERIOR

Bureau of Land Management

[LLCO922000-L13100000-FI0000-16X]

Proposed Reinstatement of Terminated Oil and Gas Leases COC73423, COC73424, COC73440, COC73442, COC73443, COC73444, Colorado

AGENCY: Bureau of Land Management, Interior.

ACTION: Notice.

SUMMARY: As provided for under the Mineral Lands Leasing Act of 1920, as amended, the Bureau of Land Management (BLM) received petitions to reinstate oil and gas leases COC73423, COC73424, COC73440, COC73442, COC73443, and COC73444 from Synergy Resources Corporation for lands in Morgan and Weld counties, Colorado. The lessee filed the petitions on time, along with all the rentals due since the leases terminated under the law.

FOR FURTHER INFORMATION CONTACT: Cheryl Hirschel, BLM Land Law Examiner, Fluid Minerals Adjudication, at (303) 239-3749. Persons who use a telecommunication device for the deaf (TDD) may call the Federal Information Relay Service (FIRS) at 1-800-877-8339 to contact the above individual during normal business hours. FIRS is available 24 hours a day, 7 days a week, to leave a message or questions with the above individual. You will receive a reply during normal business hours.

SUPPLEMENTARY INFORMATION: The lessee has agreed to the amended lease terms for additional stipulations and for rentals and royalties at rates of $10 per acre or fraction thereof, per year and 16⅔ percent, respectively. The lessee has paid the required $500 administrative fee and $159 to reimburse the Department for the cost of this Federal Register notice. The lessee has met all the requirements for reinstatement of the leases as set out in Section 31(d) and (e) of the Mineral Lands Leasing Act of 1920 (30 U.S.C. 188), and the BLM is proposing to reinstate leases COC73423, COC73424, COC73440, COC73442, COC73443 and COC73444 effective December 1, 2010, under the modified terms and conditions of the leases and the increased rental and royalty rates cited above.

Ruth Welch,
BLM Colorado State Director.

[FR Doc. 2016-06609 Filed 3-22-16; 8:45 am]

BILLING CODE 4310-JB-P